ENVIRONMENTAL PROTECTION AGENCY

[EPA-HQ-OAR-2008-0655; FRL-9990-22-OEI]

Information Collection Request Submitted to OMB for Review and Approval; Comment Request; GreenChill Advanced Refrigeration Partnership (Renewal)

AGENCY: Environmental Protection Agency (EPA).

ACTION: Notice.

SUMMARY: The Environmental Protection Agency (EPA) has submitted an information collection request (ICR), GreenChill Advanced Refrigeration Partnership (EPA ICR Number 2349.02, OMB Control Number 2060-0702) to the Office of Management and Budget (OMB) for review and approval in accordance with the Paperwork Reduction Act. This is a proposed extension of the ICR, which is currently approved through May 31, 2019. Public comments were previously requested via the Federal Register on August 20, 2018, during a 60-day comment period. This notice allows for an additional 30 days for public comments. A fuller description of the ICR is given below, including its estimated burden and cost to the public. An agency may not conduct or sponsor and a person is not required to respond to a collection of information unless it displays a currently valid OMB control number.

DATES: Additional comments may be submitted on or before July 1, 2019.

ADDRESSES: Submit your comments, referencing Docket ID Number EPA-HQ-OAR-2008-0655, to (1) EPA online using www.regulations.gov (our preferred method), by email to a-and-r-docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Tom Land, Stratospheric Protection Division, Office of Atmospheric Programs (Mail Code 6205T), Environmental Protection Agency, 1200 Pennsylvania Ave. NW, Washington, DC 20460; telephone number: (202) 343-9185; fax number: (202) 343-2362; email address: land.tom@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: GreenChill is a voluntary partnership program sponsored by the U.S. Environmental Protection Agency (EPA) that encourages supermarket companies to adopt cost effective technologies and practices that reduce refrigerant emissions and improve operational efficiency. The GreenChill Program works with the supermarket industry to lower remove barriers inhibiting the implementation of technologies and practices that reduce refrigerant emissions. The Program effectively promotes the adoption of emission reduction practices and technologies by engaging GreenChill partners to set an annual refrigerant emission reduction goal and develop a Refrigerant Management Plan reflecting the company's implementation objectives. Implementation of the partners' Refrigeration Management Plan to reduce refrigerant emissions enhances the protection of the environment and may save Partners money and improve operational efficiency. The GreenChill Program offers the opportunity for any individual store to be GreenChill certified at the silver-, gold- or platinum-level when it demonstrates that the amount of refrigerant used is below a specified limit, based on the store's MBTU/hour cooling load, and that the refrigerant emitted from the store in the prior 12 months is below a specified percentage depending on each GreenChill store certification level. Information submitted for the certification of individual stores is compared to these set criteria for each certification level. The certification of a store provides the opportunity for broad recognition within the supermarket industry and with the store's customers. All information submitted to EPA is treated in accordance with the EPA regulations at 40 CFR part 2, that include provisions on protecting confidential business information (CBI).

Form Numbers: 5900-213, 5900-214.

Respondents/affected entities: Supermarkets, NAICS code: 445110.

Respondent's obligation to respond: Voluntary.

Estimated number of respondents: 232 (per year).

Frequency of response: Annual, and when desired.

Total estimated burden: 2,608 hours (per year). Burden is defined at 5 CFR 1320.03(b).

Total estimated cost: $110,940 (per year), includes $0 annualized capital or operation & maintenance costs.

Changes in Estimates: Due to the inclusion of voluntary submissions by individual supermarkets to become GreenChill certified, and recognizing these submissions are increasing annually, the total number of hours increases by 920 per year compared with the ICR currently approved by OMB. In addition, the number of companies submitting information voluntarily under the Corporate Emission Reduction Program (the Partnership) is reduced due to industry consolidation, acquisitions, and bankruptcy, as well as a reduction in the number of companies joining the partnership each year. The costs associated with labor categories reflect generally higher salaries across Respondents and the Agency.

Courtney Kerwin,
Director, Regulatory Support Division.

[FR Doc. 2019-11273 Filed 5-29-19; 8:45 am]

BILLING CODE 6560-50-P